DEPARTMENT OF JUSTICE

Notice of Lodging of Consent Decree Pursuant to the Clean Water Act

In accordance with Department of Justice policy, 28 CFR 50.7, notice is hereby given that a proposed consent decree in the action entitled United States of America v. Sapo Corporation, et al., Civil Action No. 97-2271 (D.P.R.), was lodged on August 17, 2000 with the United States District Court for the District of Puerto Rico. The proposed consent decree resolves civil claims of the United States, on behalf of the U.S. Environmental Protection Agency (“EPA”), under the Federal Water Pollution Control Act, as amended (“Clean Water Act”), 33 U.S.C. 1251-1387, against defendants Sapo Corporation, Concho Corporation, Arnold Benus, and Salvador Suau. These claims are injunctive relief and civil penalties arising from defendants' alleged discharged of wastewater into the Caribbean Sea at the Copamarina Beach Resort in Cana Gorda Ward, Guanica, Puerto Rico, without a National Pollutant Discharge Elimination System permit from EPA, in violation of Section 301(a) of the Clean Water Act, 33 U.S.C. 1311(a).

Under the terms of the proposed consent decree, the defendants will pay a civil penalty of $200,000 to the United States and will be permanently enjoined from discharging any pollutant from any source at the Copamarina Beach Resort into the waters of the United States unless such discharge is in full compliance with the Clean Water Act and its implementing regulations.

The Department of Justice will receive, for a period of thirty (30) days from the date of this publication, comments relating to the proposed consent decree. Comments should be addressed to the Assistant Attorney General, Environment and Natural Resources Division, U.S. Department of Justice, Washington, D.C. 20530, and should refer to United States v. Sapo Corporation, et al., Civil Action No. 97-2271 (D.P.R.), DOJ Ref. No. 90-5-1-1-4471.

The proposed consent decree may be examined at the Office of the United States Attorney, Federal Building, Chardon Avenue, Hato Rey, Puerto Rico 00918, and at the U.S. Environmental Protection Agency, Region II, 290 Broadway, New York, New York 10007-1866. A copy may be obtained by mail from the Consent Decree Library, U.S. Department of Justice, P.O. Box 7611, Ben Franklin Station, Washington, D.C. 20044-7611. In requesting a copy by mail, please refer to the referenced case and enclose a check in the amount of $3.50 (25 cents per page reproduction costs for the Decree) made payable to Consent Decree Library.

Bruce Gelbar,
Deputy Chief, Environmental Enforcement Section, Environment and Natural Resources Division, Department of Justice.

[FR Doc. 00-22131 Filed 8-29-00; 8:45 am]

BILLING CODE 4410-15-M